FEDERAL COMMUNICATIONS COMMISSION

Notice of Public Information Collection(s) Being Reviewed by the Federal Communications Commission

May 1, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments July 8, 2003. If you anticipate that you will be submitting comments, but find it difficult to do so within the period of time allowed by this notice, you should advise the contact listed below as soon as possible.

ADDRESSES: Direct all Paperwork Reduction Act (PRA) comments to Judy B. Herman, Federal Communications Commission, 445 12th Street, SW., Room 1-C804, Washington, DC 20554 or via the Internet to Judith-B.Herman@fcc.gov.

FOR FURTHER INFORMATION CONTACT: For additional information or copies of the information collection(s) contact Judy B. Herman at 202-418-0214 or via the Internet at Judith-B.Herman@fcc.gov.

SUPPLEMENTARY INFORMATION: OMB Control No.: 3060-0917.

Title: CORES Registration Form.

Form No.: FCC Form 160.

Type of Review: Extension of a currently approved collection.

Respondents: Individuals or households, business or other for profit, not-for-profit institutions, state, local or tribal government.

Number of Respondents: 134,500.

Estimated Time Per Response: .166 hours (10 minutes).

Frequency of Response: One-time reporting requirement.

Total Annual Burden: 22,327 hours.

Annual Reporting and Recordkeeping Cost Burden: N/A.

Needs and Uses: The Commission Registration System (CORES) will assign each entity doing business with the Commission with a FCC Registration Number (FRN) for collecting and reporting on any delinquent amounts arising out of such person's relationship with the FCC. The respondents are anyone doing business with the FCC. These forms are received by both Mellon Bank and FCC CORES Help Desk for data entry. The information will be used for a standard data repository for entity name, address, Taxpayer Identification Number, telephone number, email address, fax, contact representative, contact representative address, telephone, email address and fax.

OMB Control No.: 3060-0918.

Title: CORES Update/Change Form.

Form No.: FCC Form 161.

Type of Review: Extension of a currently approved collection.

Respondents: Individuals or households, business or other for-profit, not-for-profit institutions, state, local or tribal government.

Number of Respondents: 21,000.

Estimated Time Per Response: .166 hours (10 minutes).

Frequency of Response: On occasion reporting requirement.

Total Annual Burden: 3,486 hours.

Annual Reporting and Recordkeeping Cost Burden: N/A.

Needs and Uses: The purpose of this form is used to update/change an entity name, address, telephone number, email address, fax, contact representative, contact representative address, telephone number, email address, and fax in the CORES system. The information is received at the CORES Help desk for data entry/update. The purpose of obtaining the FCC Registration Number (FRN) is for collecting and reporting on any delinquent amounts arising out of such person's relationship with the FCC. The respondents are anyone doing business with the Commission.

Federal Communications Commission.
Marlene H. Dortch,
Secretary.

[FR Doc. 03-11493 Filed 5-8-03; 8:45 am]

BILLING CODE 6712-01-P